DEPARTMENT OF TRANSPORTATION

Research and Special Programs Administration

[Docket RSPA-98-4957]

Renewal of Existing Information Collection

AGENCY: Office of Pipeline Safety, Research and Special Programs Administration, DOT.

ACTION: Request for public comments and OMB approval.

SUMMARY: As required by the Paperwork Reduction Act of 1995, the Research and Special Programs Administration's (RSPA) Office of Pipeline Safety (OPS) published a notice on January 22, 2004 (69 FR 3194) requesting public comments on a request for renewal of an information collection, Drug and Alcohol Testing of Pipeline Operators. This information collection requires that pipeline operators submit drug and alcohol test results for their employees. RSPA/OPS believes that alcohol and drug testing requirements are an important tool for operators to monitor drug and alcohol usage in the industry. RSPA/OPS has found that the drug and alcohol usage rate among employees in the pipeline industry is less than 1%. This notice requests approval of the renewal from the Office of Management and Budget (OMB) and additional comments from the public.

DATES: Comments on this notice must be received by May 24, 2004, to be assured of consideration.

ADDRESSES: Comments should identify the docket number of this notice, RSPA-98-4957, and be mailed directly to OMB, Office of Information and Regulatory Affairs (OIRA), 726 Jackson Place, NW., Washington, DC 20503, ATTN: Desk Officer for the Department of Transportation (DOT).

FOR FURTHER INFORMATION CONTACT: Marvin Fell, OPS, RSPA, DOT, 400 Seventh Street, SW., Washington, DC 20590, (202) 366-6205 or by electronic mail at marvin.fell@rspa.dot.gov.

SUPPLEMENTARY INFORMATION:

Discussion of Comment

A comment was received from a drug and alcohol testing company that provides services to pipeline operators. This commenter raised the issue of the reporting of test results from contractors. This commenter has raised this issue with DOT and RSPA/OPS on other occasions. However, this issue is a matter of policy and is outside the scope of the renewal of this information collection. The purpose of this notice is to allow the public an additional 30 days to comment on the information collection renewal and to request approval of the renewal from OMB.

Abstract: Drug and alcohol abuse is a major societal problem and it is reasonable to assume the problem exists in the pipeline industry as it does in society as a whole. The potential harmful effect of drug and alcohol abuse on safe pipeline operations warrants imposing comprehensive testing regulations on the pipeline industry. These rules are found in 49 CFR part 199.

Title: Drug and Alcohol Testing of Pipeline Operators.

OMB Number: 2137-0579.

Type of Request: Renewal of an existing information collection.

Estimate of Burden: 1.22 hour per operator.

Respondents: Gas and hazardous liquid pipeline operators.

Estimated Number of Respondents: 2,419.

Estimated Total Annual Burden on Respondents: 2,963 hours.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, DC, on April 16, 2004.
Richard D. Huriaux,
Regulations Manager, Office of Pipeline Safety.

[FR Doc. 04-9197 Filed 4-22-04; 8:45 am]

BILLING CODE 4910-60-P